DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Sanctions Compliance, tel.: 202-622-2490.

SUPPLEMENTARY INFORMATION:

Electronic Availability

The SDN List and additional information concerning OFAC sanctions programs are available on OFAC's website (https://www.treasury.gov/ofac).

Notice of OFAC Actions

On May 30, 2024, OFAC determined that the property and interests in property subject to U.S. jurisdiction of the following persons are blocked under the relevant sanctions authorities listed below.

BILLING CODE 4810-AL-P

Entities

1. MINING INDUSTRIES SARLU (a.k.a. MINING INDUSTRIES SURL), Entree Rue Maitre Tiangaye, Avenue des Martyrs, 4 EME, Quartierfouh, Bangui, Central African Republic; Organization Type: Mining of other non-ferrous metal ores; Tax ID No. M364135L001 (Central African Republic) [RUSSIA-EO14024] (Linked To: PRIVATE MILITARY COMPANY 'WAGNER').

Designated pursuant to section 1(a)(vii) of Executive Order 14024 of April 15, 2021, “Blocking Property With Respect To Specified Harmful Foreign Activities of the Government of the Russian Federation,” 86 FR 20249, 3 CFR, 2021 Comp., p. 542 (Apr. 15, 2021), as amended by Executive Order 14114 of December 22, 2023, “Taking Additional Steps With Respect to the Russian Federation's Harmful Activities, 88 FR 89271 (E.O. 14024), for being owned or controlled by, or having acted or purported to act for or on behalf of, directly or indirectly, Private Military Company `Wagner', a person whose property and interests in property are blocked pursuant to E.O. 14024.

2. LOGISTIQUE ECONOMIQUE ETRANGERE SARLU, Enceinte Mai, Route De Ndres, Quartier Boy-Rabe, Arrondissement 4, Bangui, Central African Republic; Organization Established Date Oct 2020; Organization Type: Non-specialized wholesale trade; Business Registration Number CA/BG2020B1559 (Central African Republic) [RUSSIA-EO14024] (Linked To: LIMITED LIABILITY COMPANY BROKER EXPERT).

Designated pursuant to section 1(a)(vi)(B) of E.O. 14024 for having materially assisted, sponsored, or provided financial, material, or technological support for, or goods or services to or in support of, Limited Liability Company Broker Expert, a person whose property and interests in property are blocked pursuant to E.O. 14024.

Dated: May 30, 2024.
Bradley T. Smith,
Director, Office of Foreign Assets Control, U.S. Department of the Treasury.

[FR Doc. 2024-12185 Filed 6-3-24; 8:45 am]

BILLING CODE 4810-AL-P